DEPARTMENT OF TRANSPORTATION

Research and Special Programs Administration

[Docket: RSPA-98-4957]

Information Collection; Request for Comments and OMB Approval

AGENCY: Research and Special Programs Administration, Department of Transportation.

ACTION: Request for comments and OMB approval.

SUMMARY: This notice seeks comments from the public regarding the need for the Research and Special Programs Administration's (RSPA) Office of Pipeline Safety (OPS) to collect paperwork information from gas distribution service line operators to ensure that those operators who do not maintain all of their piping notify their customers that they must maintain the piping. This notice is published to measure the need for the proposed paperwork collection, ways to minimize the burden on operators who must respond, ways to enhance the quality of the information collected, and to verify the accuracy of the agency's estimate of the burden (measured in work hours) on the regulated industry. By advising customers of the need to maintain their buried gas piping, the notices reduce the risk of accidents. RSPA/OPS published a notice on March 5, 2002, requesting public comment. No comments were received. This notice also seeks approval from the Office of Management and Budget to renew the existing approval of this paperwork collection.

DATES: Comments on this notice must be received by July 5, 2002, to be assured of consideration.

FOR FURTHER INFORMATION CONTACT: Marvin Fell, OPS, RSPA, Department of Transportation (DOT), 400 Seventh Street, SW., Washington, DC 20590 or call at (202) 366-6205 by e-mail to marvin.fell@rspa.dot.gov.

SUPPLEMENTARY INFORMATION: Title of Information Collection: Customer-Owned Service Lines, Customer Notification.

Type of Request: Existing information collection.

Abstract: RSPA regulation (49 CFR 192.16) requires operators of gas service lines who do not maintain buried customer piping up to building walls or certain other locations to notify their customers of the need to maintain that piping. Congress directed DOT to take this action in view of service line accidents. By advising customers of the need to maintain their buried gas piping, the notices may reduce the risk of further accidents.

In addition, each operator must make the following records available for inspection by RSPA/OPS or a State agency participating under 49 U.S.C. 60105 or 60106: (1) A copy of the notice currently in use; and (2) evidence that notices have been sent to customers within the previous 3 years.

As used in this notice, the terms “information collection” and “paperwork collection” are synonymous, and include all work related to preparing and disseminating information related to this customer notification requirement including completing paperwork, gathering information and conducting telephone calls.

Estimate of Burden: Minimal.

Respondents: Gas transmission and distribution operators.

Estimated Number of Respondents: 1,590.

Estimated Number of Responses per Respondent: 350.

Estimated Total Annual Burden on Respondents: 9,137 hours.

ADDRESSES: You must identify the docket number RSPA-98-4957 at the beginning of you comments. Comments can be mailed directly to the Office of Regulatory Affairs, OMB, 726 Jackson Place, NW., Washington, DC 20503, ATTN: Desk Officer for the Department of Transportation.

You may review the public docket containing comments in person in the Dockets Office between 9 a.m. and 5 p.m., Monday through Friday except Federal Holidays. The Dockets Office is on the plaza level of the NASSIF Building at DOT at the above address. Also, you may review public dockets on the Internet at http.//dms.dot.gov/search. Once on the search page, type in the last four digits of the docket number shown at the beginning of this notice (in this case 4957) and click on “search.”

Comments are invited on: (a) The need for the proposed collection of information for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including the use of appropriate automated, electronic, mechanical, or other technological collection techniques.

Issued in Washington, DC, on May 30, 2002.
Stacey L. Gerard,
Associate Administrator for Pipeline Safety.

[FR Doc. 02-14046 Filed 6-4-02; 8:45 am]

BILLING CODE 4910-60-P